SECURITIES AND EXCHANGE COMMISSION

[Release No. 34-82697; File No. SR-BOX-2018-07]

Self-Regulatory Organizations; BOX Options Exchange LLC; Notice of Filing and Immediate Effectiveness of Proposed Rule Change To Expand the Short Term Option Series Program

February 13, 2018.

Correction

In notice document 2017-03306 beginning on page 7279 in the issue of Tuesday, February 20, 2017, make the following correction:

On page 7282, in the first column, in the twelfth through thirteenth lines, “March 9, 2018” should read “March 13, 2018”.

[FR Doc. C1-2018-03306 Filed 3-12-18; 8:45 am]

BILLING CODE 1301-00-P